DEPARTMENT OF THE INTERIOR

Office of the Secretary

[Docket No. DOI-2022-0003; 223D0102DM, DS6CS00000, DLSN00000.000000, DX.6CS25]

Request for Information To Inform Interagency Working Group on Mining Regulations, Laws, and Permitting

AGENCY: Office of the Secretary, Department of the Interior.

ACTION: Request for information.

SUMMARY: The Department of the Interior is announcing the formation of an interagency working group to gather information and develop recommendations for improving Federal hardrock mining regulations, laws, and permitting processes, and is inviting public comments to help inform the efforts of the working group. Virtual or in-person public listening sessions will be announced in the upcoming months.

DATES: Interested persons are invited to submit comments by 11:59 p.m. on July 31, 2022. When public listening sessions are scheduled, the dates will be published in the Federal Register.

ADDRESSES: Comments may be submitted through https://www.regulations.gov and will be available for public viewing and inspection. In the Search box, enter the docket number presented above in the document headings. For best results, do not copy and paste the number; instead, type the docket number into the Search box using hyphens. Then, click on the Search button. You may submit a comment by clicking on “Comment.” Comments may also be submitted by mail using the following address: Bureau of Land Management, Division of Solid Minerals, 1849 C Street NW, Room 5645, Washington, DC 20240.

FOR FURTHER INFORMATION CONTACT: Steven Feldgus, Deputy Assistant Secretary, Land and Minerals Management, (202) 208-6734 or by email at miningreform@ios.doi.gov. Individuals in the United States who are deaf, deafblind, hard of hearing, or have a speech disability may dial 711 (TTY, TDD, or TeleBraille) to access telecommunications relay services for contacting (Mr. Feldgus). Individuals outside the United States should use the relay services offered within their country to make international calls to the point-of-contact in the United States.

SUPPLEMENTARY INFORMATION: On February 24, 2021, President Biden signed Executive Order (E.O.) 14017, “America's Supply Chains.” On June 8, 2021, the White House released the 100-Day reviews directed by E.O. 14017, which included a recommendation for the Federal government to establish “an interagency team with expertise in mine permitting and environmental law to identify gaps in statutes and regulations that may need to be updated to ensure new production meets strong environmental standards throughout the lifecycle of the project; ensure meaningful community consultation and consultation with tribal nations, respecting the government-to-government relationship, at all stages of the mining process; and examine opportunities to reduce time, cost, and risk of permitting without compromising these strong environmental and consultation benchmarks.” ¹ On September 16, 2021, the Department of the Interior (Department) received a petition for rulemaking pursuant to the Department's regulations at 43 CFR part 14 from 9 Tribal and 31 conservation groups requesting “a rulemaking to strengthen and modernize [the Bureau of Land Management's] regulations at 43 CFR 3800 et seq.” On November 15, 2021, President Biden signed the Infrastructure Investment and Jobs Act (IIJA); section 40206 of the IIJA, “Critical Minerals Supply Chains and Reliability,” directs the Secretaries of the Interior and Agriculture to submit a report to Congress by November 15, 2022, that “identifies additional measures, including regulatory and legislative proposals, if appropriate, that would increase the timeliness of permitting activities for the exploration and development of domestic critical minerals.”

¹ The White House, Building Resilient Supply Chains, Revitalizing American Manufacturing, and Fostering Broad-Based Growth, June 2021, p. 14. https://www.whitehouse.gov/briefing-room/statements-releases/2021/06/08/fact-sheet-biden-harris-administration-announces-supply-chain-disruptions-task-force-to-address-short-term-supply-chain-discontinuities/.

To respond to these directives and the rulemaking petition, the Department has created an interagency working group (IWG) on Federal hardrock mining laws, regulations, and permitting, chaired by the Department and including the Department of Agriculture through the U.S. Forest Service; the Environmental Protection Agency; the Army Corps of Engineers; the Departments of Commerce, Energy, and State; the Council on Environmental Quality; and the National Economic Council. For the purposes of the IWG, “hardrock” minerals are those mineral resources that are subject to disposal under the Mining Law of 1872.

The IWG intends to convene agency experts and receive input from the public in order to assess the adequacy of existing laws, regulations, and permitting processes, determine whether changes to those are necessary to meet the goals laid out in the recommendation from the E.O. 14017 100-Day reviews, and if it concludes that changes are necessary, make recommendations to the appropriate Federal agencies or Congress on how to implement those changes. The IWG will consider a broad range of issues related to mining, such as:

• Would alternatives to the existing claim system, such as leasing, or adjustments to the current system, such as incorporating mining into comprehensive federal lands use assessments and planning, lead to better outcomes for communities, environment and a secure domestic supply of minerals? If so, how should such an alternative or adjusted system be structured?

• Are there international mining best practices or standards that the United States should consider adopting, or encouraging the U.S. mining industry to adopt? If so, which practices or standards and what improvements or benefits would they provide?

• If the U.S. were to place royalties on hardrock minerals produced from public domain lands, what factors should be considered and what structures would best protect the interests of the taxpayer while responsibly incentivizing production?, In addition, if royalties were collected, how should those revenues be allocated?

• What changes to financial assurance requirements for mining should be considered?

• How might the U.S. best support reclamation of existing AML sites including the development of meaningful good Samaritan proposals as well as remining and reprocessing of mine tailings and waste, where feasible?

• What would a successful mine reclamation program include? Are there existing programs that the U.S. should adopt?

• How can Tribes and local communities be effectively engaged early in the process to ensure that they have meaningful input into the development of mine proposals?

• How could updates to the Mining Law of 1872, or other relevant statutes, help provide more certainty and timeliness in the permitting process?

• What improvements can be made to the mine permitting process without reducing opportunities for public input or limiting the comprehensiveness of environmental reviews?

• What types of incentives would be appropriate to encourage the development of critical minerals, and what is the proper definition of a “critical mineral mine”?

• Are there areas that should be off-limits from mining, and if so, how should those be identified?

• What science and data should be included in any decisions to permit and develop mines?

This list is not meant to be comprehensive; it is simply a reflection of the breadth of the issues under the IWG's purview.

To inform the IWG's deliberations, in addition to soliciting comment from any interested member of the public through the end of July 2022, the IWG will host a series of roundtables, either virtually or in-person, for different stakeholder groups, including but not limited to:

• Native American Tribes;

• state and local governments;

• environmental justice groups;

• labor organizations;

• the hardrock mining industry;

• Non-governmental organizations representing environmental, conservation, and recreation interests;

• scientists; and

• other experts in mining laws, regulations, and permitting.

Additional information regarding these roundtables will be provided at a later date through publication in the Federal Register and on agency websites. The roundtables will be open to the public but speaking opportunities will be by invitation only. The Department welcomes nominations for speakers for each of the stakeholder groups listed above, and also suggestions for roundtables for additional stakeholder groups that are not listed.

Before including your address, phone number, email address, or other personal identifying information in your comment, you should be aware that your entire comment—including your personal identifying information—may be made publicly available at any time. While you can ask us in your comment to withhold your personal identifying information from public review, we cannot guarantee that we will be able to do so.

Dated: March 23, 2022.
Tommy Beaudreau,
Deputy Secretary, U.S. Department of the Interior.

[FR Doc. 2022-06750 Filed 3-30-22; 8:45 am]

BILLING CODE 4334-63-P